ENVIRONMENTAL PROTECTION AGENCY

[FRL -7521-3]

Solicitation Notice; Children's Environmental Health Protection State Level Collaboration to Address Childhood Asthma Initiative, Fiscal Year 2003—USEPA-AO-OCHP-03-001

Fiscal Year 2003, Environmental Protection Agency, deadline for letter of intent, August 11, 2003; http://yosemite.epa.gov/ochp/ochpweb.nsf/content/grants.htm.

Contents

Section I—Overview

Section II—Dates and Deadlines

Section III—Addresses for Delivering Letters of Intent and Proposals

Section IV—Eligible Applicants and Activities

Section V—Funding Priorities

Section VI—Application Process

Section VII—Requirements for Letters of Intent and Full Proposals

Section VIII—Review and Selection Process

Section IX—Grantee Responsibilities

Section X—Other Information and Shipping

Attachment: Sample Letter of Intent Summary Sheet

Section I. Overview

A. Summary

This action known as the Solicitation Notice for the Children's Environmental Health Protection State Level Collaboration to Address Childhood Asthma Initiative, Fiscal Year 2003 announces the availability of funds from the Environmental Protection Agency's (EPA) Office of Children's Health Protection (OCHP), to support the efforts of state environment and health agencies together to minimize the environmental factors that exacerbate asthma symptoms in children.

B. Authorities

Section 103 of the Clean Air Act (CAA) authorizes EPA's Administrator to conduct and promote the coordination and acceleration of research, investigations, experiments, demonstrations, surveys and studies relating to the causes, effects (including health and welfare effects), extent, prevention, and control of air pollution by making grants to air pollution control agencies, to other public or nonprofit private agencies, institutions, and organizations for purposes stated in section 103(a)(1) http://www.epa.gov/oar/caa/caa103.txt.

The goal of the Children's Environmental Health Protection program (hereinafter “the Initiative”) is to minimize and/or eliminate children's exposure to environmental health threats— recognizing children's special vulnerability to these threats and recognizing the possibility of preventable childhood exposures leading to lifelong, irreversible consequences. This program is included within the Catalogue for Domestic Assistance (CFDA) listing number: 66.609 found at http://www.cfda.gov. This funding initiative will support planning and/or demonstration projects related specifically to the environmental triggers of childhood asthma.

C. Background

In recent years, EPA's Office of Children's Health Protection has encouraged and supported collaboration between state level health and environment agencies toward the end of building state capacity to combat childhood asthma.

Since the summer of 2001, the Environmental Council of the States (ECOS) has collaborated with the Association of State and Territorial Health Officials (ASTHO) and the U.S. Environmental Protection Agency to design a flexible template for state level strategies and actions to minimize environmental factors that contribute to asthma in children.

This focus on environmental factors complements the on-going Centers for Disease Control (CDC) state asthma program which recognizes the need to address environmental factors but does not explicitly provide guidance or support for this aspect of disease prevention and control. This action may also complement Housing and Urban Development's (HUD) Healthy Homes Initiative, which supports effective home assessment and intervention programs as well as public education.

Throughout 2002, ECOS, ASTHO, and EPA hosted a series of four workshops to refine the details of a cooperative approach in four specific areas: Data, environmental factors in homes, environmental factors in schools and child care facilities, and outdoor environmental factors.

The eligible funding categories and guiding principles of this Request for Applications are a reflection of the draft action agenda, Catching Your Breath, http://www.astho.org/pubs/CatchingYourBreathReport.pdf that resulted from this intensive collaborative visioning process.

D. Proposal Categories

The Initiative plans to award assistance agreements (grants and cooperative agreements) to state health and environment agencies and/or regional air authorities with formal delegated authorities with a project period not to exceed 24 months in two main categories:

(1) Program planning projects;

(2) Program demonstration projects.

The specific funding priorities for each category are described in detail below.

E. Dollar Limits per Proposal

For this competition, the Initiative anticipates making available approximately $360,000 under this solicitation to fund approximately 9 to 12 awards. The dollar amount of each award will vary depending upon Initiative priorities, proposal quality and level of activity, and resource availability. Proposals for less than $20,000 or greater than $50,000 will not be considered. EPA reserves the right to reject all proposals and make no awards.

Projects not selected for award under this solicitation will be retained on file and made available to other EPA offices for potential funding for a period of one year from the date of receipt by EPA. This solicitation notice contains all the information and forms necessary to prepare a Letter of Intent. Should your Letter of Intent be approved, this solicitation package directs you to web and mailed sources of the application kit for a Full Proposal. If your Full Proposal is selected for possible award, your EPA Regional Office will supply you with additional Federal forms needed to process your Full Proposal for award.

Section II. Dates and Deadlines

F. Dates and Deadlines

(1) The Initiative Solicitation will be issued on or about July 11, 2003.

(2) Letters of Intent are due to EPA via e-mail on or before August 11, 2003.

(3) Confirmation of Receipt of the e-mailed Letter of Intent will be issued not more than 7 business days after receipt by the Agency. Applicant should follow-up by phone immediately to 202-564-2646 if acknowledgement from EPA is not received within this time period.

(4) Applicants submitting a Letter of Intent will be notified via e-mail on or before August 22, 2003 if they are deemed eligible to participate in the Pre-application Assistance Call and to submit a Full Proposal.

(5) Pre-application Assistance Call will be held on September 3, 2003. Applicants with accepted Letters of Intent who expressed an interest in participating in the Pre-application Assistance Call will be advised via e-mail of the call-in number.

(6) Due Date—October 6, 2003, for Full Proposals from invited eligible applicants to be delivered to the courier for shipment or postmarked (see note below re: postal mailing. Full Proposals shipped or mailed after this date will not be considered for funding under this solicitation.

(7) Applicants will receive an e-mail notification of receipt of the Full Proposal within one month of receipt by the Agency.

(8) Selected projects will be announced on or around December 1, 2003.

(9) Start Date for Projects—February 1, 2004, is the earliest start date that applicants should plan on and enter on their application forms and time lines. Grant recipients may begin incurring allowable costs on the start date identified in the EPA grant award agreement. Budget periods may run from 18-24 months.

(10) Rejection Letters—Rejection Letters are usually sent within 6 months after submission of the Full Proposal.

Section III. Addresses for Delivering Letters of Intent and Full Proposals

G. Letters of Intent

Letters of Intent should have an e-mail subject line starting with Letter of Intent: followed by your Project Title. The e-mail should be sent to fletcher.bettina@epa.gov.

H. Full Proposals if Invited by EPA

Full Proposals If Invited By EPA—Due to on-going mail delays in the Washington, DC area, applicants who are invited to submit a Full Proposal are strongly encouraged to send original Full Proposals signed by an authorized representative of their state organization by way of a private shipping company (e.g., Federal Express, UPS, DHL, or courier) to the attention of: Bettina Fletcher, U.S. EPA, Office of Children's Health Protection, 1200 Pennsylvania Ave, NW., Mail Code 1107A, Room 2512 Ariel Rios North, Washington, DC 20004.

If Full Proposals are mailed, send them to: Bettina Fletcher, U.S. EPA, Office of Children's Health Protection, 1200 Pennsylvania Ave, NW., Mail Code 1107A, Room 2512 Ariel Rios North, Washington, DC 20460.

Section IV. Eligible Applicants and Activities

I. Eligible Applicants

To be eligible to compete for these assistance funds, applicants must:

(1) Meet standards for eligibility described in section 103(b)(3) of the CAA (http://www.epa.gov/oar/caa/caa103.txt).

(2) Represent one of the states from EPA Regions 2 through 10. States from EPA's Region 1 (CT, MA, ME, NH, RI, and VT) may not apply under this grant. Assistance programs in this area for these states were addressed through a different solicitation. See note below for the related Region 1 grant for which these states were eligible.

(3) Adhere to the provisions of The Executive Order 12372, “Intergovernmental Review of Federal Programs” (SPOC List) applies. See http://www.whitehouse.gov/omb/grants/spoc.html for further information.

(4) Demonstrate that you are a state health, or environment or a regional air authority with formal delegated authority. While only these agencies may be the direct recipients and lead project administrators of the project, other partners are eligible for compensation through sub-contracting agreement(s) between the lead agency and collaborating partners as long as the state agency maintains a substantive role in the project.

Projects that include and demonstrate a substantive and active collaboration between a state health agency and a state environment agency will be evaluated more favorably. (See selection criteria below). This collaboration could be reflected in activities such as:

(a) Both agencies dedicating personnel;

(b) Agencies co-sponsoring crucial meetings; or

(c) Both agencies being involved in peer reviews of documents and/or products.

J. Exceptions

(1) Special Note to EPA Region 1 States:

The EPA Region 1 states of Connecticut, Maine, Massachusetts, New Hampshire, Rhode Island and Vermont are expressly excluded from this funding Initiative. Funding was available directly from the Region 1 Office through a different solicitation known as the Healthy Communities Grant Program to support New England states' efforts in the arena of childhood asthma and related community-based endeavors. See http://www.epa.gov/region01/grants/healthycommunities.html or contact Sandra Padula at (617) 918-1797 for more information.

K. Multiple Proposals

State organizations within one state may submit more than one proposal if the proposals are for different projects. However, no more than one grant will be awarded to a state during the same fiscal year. State organizations are encouraged to collaborate with joint proposals under this solicitation that is focused on bringing environment and health departments together to address environmental triggers of childhood asthma.

L. Eligible Expenses

(1) Salaries/fringe;

(2) Travel;

(3) Communications;

(4) Equipment rental;

(5) Indirect overhead;

(6) Public outreach efforts (workshops, public forums, meeting expenses);

(7) Office expenses;

(8) Printing and copying;

(9) Conference and promotional materials; and

(10) Web site dissemination of information related to the project.

M. Ineligible Expenses

(1) Capital improvements;

(2) Construction projects;

(3) Lobbying or political activities;

(4) Formal education;

(5) Entertainment;

(6) Remediation and removal ;

(7) Provision of medical equipment and supplies;

(8) Air sampling; and

(9) Grants solely for equipment purchases.

Section V. Funding Priorities

N. Solicitation Phases

All states have a long history of working on childhood asthma. However, asthma has been seen traditionally as a health issue alone. In the course of the ECOS/ASTHO work with the states, states have become increasingly aware of the need for state environment and health agencies to develop collaboratively state strategies and actions to minimize environmental factors that contribute to asthma in children. Applicants are strongly encouraged to review the ECOS/ASTHO state draft action agenda, Catching Your Breath, at http://www.astho.org/pubs/CatchingYourBreathReport.pdf to gain a full understanding of the work to date by the states.

To help states progress regardless of where they are on the continuum, OCHP has divided this solicitation into two parts or “Phases,” one for those states that are in the planning stages and one for states that are prepared to conduct demonstration projects to explore approaches to addressing the issues. These Phases are described below.

O. Funding Priorities and Sample Outcomes for Phase A Planning Projects

Note: States Receiving Planning Funding from the Centers for Disease Control (CDC): In order to be eligible for EPA planning funds, you must demonstrate that the activities you propose represent gaps in your current CDC work plan. For example, you might discuss how EPA funds will substantially enhance your ability to address the environmental components of the planning process.

(1) Guiding Principles

(a) Ensure that planning activities incorporate environmental factors relating to asthma.

(b) Ensure that the results are presented in terms that are sensitive and appropriate to the diverse languages and cultures of their audience.

(2) Funding Priorities

All planning proposals should include a strategic planning element that bridges state environment and health departments. Proposals may also focus on achieving results in one or more of the other Initiative areas listed below:

(a) Strategic Planning: Draft a statewide plan for addressing the environmental components of childhood asthma. This may be accomplished via a state Asthma Summit, a statewide series of participatory local forums, and/or any other process that results in a detailed statewide plan. Explicitly outline how official approval of this plan will be achieved.

Note: This strategic planning may be accomplished as a component of a larger state planning process to comprehensively address asthma. If the applicant is a CDC planning grant recipient, the strategic planning activities must substantially enhance the CDC-funded process and address environmental factors.

(b) Surveillance: Design a state level system to understand and uniformly track the burden of childhood asthma as it relates to the environment. This may include collection of environmental data as well as collection of health data. The surveillance plans could include a systematic evaluation of existing tracking mechanisms to identify data needs, best practices, information sharing opportunities, etc.

(c) Coalition Building: Build effective partnerships and/or coalitions to communicate, coordinate, and share resources. These coalitions of groups could include coordinated outreach to targeted communities; economic development including access to funds for building renovations that promote healthy indoor environments for schools or child care centers, etc.

(d) Institutionalize Environmental Management of Asthma: Develop a state policy/plan that integrates environmental management of asthma into asthma disease management programs offered to children covered under Medicaid and the State Children's Health Insurance Program.

(3) Sample Outcomes/Results for Phase A Planning Projects

(a) An Asthma Strategic Plan is developed and adopted by the state environmental and health organizations.

(b) Coalition “Charter” is developed, detailing: membership responsibilities, bylaws, vision or mission statement, leadership responsibilities, and a budget (funding sources secured and allocated.)

(c) An integrated tracking system is established that can be used meaningfully by both health professionals and environmental agencies.

(d) A coalition is formed that facilitates the procurement of low cost materials for building renovations.

P. Funding Priorities and Sample Outcomes for Phase B Demonstration Projects

Note: Phase B Demonstration Project funding is intended for the development and evaluation of new approaches and is expressly NOT to be used to execute ongoing state programs.

(1) Guiding Principles

(a) Ensure that education, training, and outreach efforts are sensitive to and appropriately address the diverse languages and cultures of their audiences.

(b) Data should be gathered, analyzed, and presented at the “smallest” level possible—smallest geographic area, shortest possible time frame, smallest age range, etc.

(c) Consider utilizing existing programs and materials from EPA and other sources prior to developing new tools. Examples of existing resources include: EPA's IAQ Tools for Schools, Smoke-free Home Pledge Campaign and public service announcement (PSA) and Asthma brochures, PSAs and media campaign.

(2) Funding Priorities

Proposals should focus on achieving results in one or more of the Initiative areas listed below:

(a) Collection, Integration and Use of Health and Environmental Data: Eligible activities include but are not limited to: Implementing new asthma surveillance system(s); designing/implementing needed environmental data gathering system(s); integrating existing health data and environmental data; analyzing health and environmental data; making the results of data collection available to the public;

(b) Addressing Environmental Factors at Home: Eligible activities include but are not limited to: Coordinating with existing home assessment programs to include an asthma component; implementing effective approaches to eliminate children's exposure to environmental tobacco smoke such as EPA's Smoke-free Home Pledge Campaign; assisting families in recognizing and preventing/ eliminating five common indoor asthma triggers at home such as second-hand smoke, house dust mites, cockroaches, mold and animal dander; working with housing authorities and/or landlords to improve indoor environmental quality in low-income and rental housing; educating special audiences like the media and medical professionals on strategies for reducing environmental triggers; developing innovative approaches to fund and/or receive reimbursement for in-home interventions (education and mitigation techniques) through public (e.g. Medicaid and State Children's Health Insurance Programs) and/or private health insurance; etc.

(c) Addressing Environmental Factors at Schools & Child Care Facilities: Eligible activities include but are not limited to: Implementing education programs, such as EPA's Indoor Air Quality Tools for Schools Program, for child care and school personnel on improving indoor environmental quality to minimize triggers; implementing state policies/plans to improve indoor environmental quality and environmental health in schools and/or child care facilities; developing and promoting state policies/plans to address existing environmental health problems and prevent new ones; developing and promoting state policies/plans to ensure proper building maintenance including funding needs; developing and promoting state policies/plans for environmentally sound school design and construction protocols; increasing the efficacy of coordinated school health teams to address the needs of students with asthma; etc.

(d) Addressing Outdoor Environmental Factors: Eligible activities include but are not limited to: Implementing steps to reduce children's exposure to diesel exhaust; investigating and/or disseminating findings about health risks associated with burning; investigating the connection between hazardous air pollutants and asthma; designing and implementing systems to forecast air quality (to help people take steps to protect their own health as well as reduce the activities that cause pollution); developing and disseminating guidelines for low pollen planting, especially in areas designed for use by children; etc.

(3) Sample Outputs and Outcomes for Asthma Projects

(a) Number of households of children with asthma that have reported reduced exposure to indoor asthma triggers.

(b) Number and names of public health organizations (HMOs, corporate wellness programs, hospitals) urging education and action to reduce the exposure of people with asthma to indoor asthma triggers, action on secondhand tobacco smoke exposure, and/or IAQ management in schools.

(c) Decreased numbers of: ER visits, in-patient hospital admissions, sick visits to primary care physicians for asthma, school days missed, rescue medication uses.

(d) Increased numbers of: symptom-free days.

(e) Estimated cost savings.

Section VI. Application Process

Q. Application Process

The application process involves two stages:

Stage 1: Letter of Intent (up to 2 pages).Letters of Intent submitted to EPA will be screened for basic eligibility and administrative responsiveness. Only those proposals satisfying all the basic requirements will be invited to submit a Full Proposal.

Stage 2: Full Proposal submission (preceded by opportunity to participate in optional Pre-proposal Assistance Call).

Note: See section VIII. Requirement for Letters of Intent and Full Proposals for the content and formats required for the Letters of Intent and Full Proposal.

Section VII. Requirements for Letters of Intent and Full Proposals

R. Stage 1: Letter of Intent (Up to two pages)

A Letter of Intent is due via e-mail to fletcher.bettina@epa.gov on or before August 11, 2003. Letters of Intent should have an e-mail subject line starting with Letter of Intent: followed by your Project Title. A sample Letter of Intent is provided as an attachment to this solicitation. A copy also can be found at: http://yosemite.epa.gov/ochp/ochpweb.nsf/content/grants.htm. Your Letter of Intent must provide all of the following information:

(Section 1) Contact information for your organization:

(a) Name of your organization;

(b) Project name;

(c) Name of authorized representative;

(c) Address;

(d) Phone number and fax number;

(e) E-mail address;

(d) Web site, if any.

(Section 2) A brief description of how your agency proposes to collaborate with sister state agency(ies).

(Section 3) One page project summary including:

(a) Description of the organizational unit which will lead/oversee the project;

(b) A brief summary statement that articulates the project's concept and states its goals and objectives;

(c) Identification of the funding priority addressed by the project;

(d) A brief summary of the method that will be used to achieve the project goals; and

(e) Summary of the kinds of activities that will be funded by the project.

(Section 4) Indication of Interest in Participating in optional Pre-application Assistance Call and Special Needs:

(a) Indication if you would like to participate in the September 3, 2003, Pre-application Assistance Call if your Letter of Intent is accepted.

Note: Letters of Intent submitted to EPA will be screened for basic eligibility and administrative responsiveness. Only those proposals satisfying all the basic requirements will be invited to submit a Full Proposal; and

(b) Indication of any special needs to permit participation on such a call.

(Section 5) Nomination of questions to be answered on the call.

S. Stage 2: Full Proposals (Including Optional Pre-Proposal Assistance Conference Call)

Note: If your Letter of Intent is accepted, you will be invited to participate in Stage 2.

(1) Optional Pre-proposal Assistance Conference Call. An optional Pre-proposal Assistance Conference Call will be held on September 3, 2003, to answer any questions prospective eligible applicants may have. If you indicate in your Letter of Intent a desire to participate in the Pre-proposal Assistance Conference Call and your Letter of Intent is found to be eligible, you will be emailed instructions for participating in the conference call.

Note: Applicants should periodically check the Web page below for updated information to applicants (e.g. posting of some Qs&As from Letters of Intent). Questions and answers from the September 3, 2003, Pre-application Assistance Call will be posted by September 10, 2003, at: http://yosemite.epa.gov/ochp/ochpweb.nsf/content/grants.htm.

(2) Full Proposal (You must complete both (a) the EPA Application Kit for Federal Assistance and (b) the Work Plan Proposal Narrative as described below).

(a) EPA Application Kit for Federal Assistance

The EPA Application Kit for Federal Assistance can be obtained on the Web at http://yosemite.epa.gov/ochp/ochpweb.nsf/content/grants.htm or http://www.epa.gov/ogd/grants/how_to_apply.htm. The second Web site also contains information on completing SF-424A Budget Forms and Understanding Cost Principles for a Federal grant.

(b) Work Plan Proposal Narrative

In addition to the standard forms contained in the EPA Application Kit for Federal Assistance, you must submit a Work Plan Proposal Narrative of no greater than 10 pages (plus appendices) that follows exactly the format outlined below. Text may be single or double spaced, no smaller than 12 point font. The pages must be letter sized (8½ x 11 inches). Margins are not specified. Proposals must be legible. This format is the same whether you are applying for support for a Phase 1 Planning Project or a Phase 2 Demonstration Project.

(i.) Contact Information Sheet (1 pg.): For the project lead and each collaborating partner, include contact name, organization, title, address, phone, fax, and e-mail.

(ii.) One Page Project Summary (1 pg.):

Note: All proposals should be well explained and easily read. Information should be clear and concise, well organized and contain no unnecessary jargon. Content should include:

(aa) Description of the organizational unit that will lead/oversee the project.

(bb) Brief summary statement that articulates the project's concept and states its goals and objectives.

(cc) Identification of the funding priority addressed by the project.

(dd) Brief summary of the method that will be used to achieve the project goals.

(ee) Summary of the kinds of activities that will be funded by the project.

(iii.) Project Description (Up to 5 pages): Describe precisely what your project will achieve. In your narrative, be sure to answer these questions in this order:

(aa) Who will conduct the project? What experience do the partners have in addressing environmental triggers of childhood asthma? What is the nature of your on-going programs addressing children's environmental health. What will be the roles and responsibilities of each partner? Who will be affected by and/or benefit from your project? How will they be targeted, identified, and recruited?

(bb) Why is it needed?

(cc) What is the purpose of your project? Explain your strategy—your goals and objectives, the specific activities you will conduct to achieve them, and what your projected outcomes will be. How will you evaluate your results and your level of success? Describe any mechanisms for tracking Initiative outputs (e.g. how many households were educated, how many homes were assessed, in how many homes were actions taken), and evaluating Initiative outcomes (e.g. the effectiveness of the education and mitigation methods, the level of increased awareness); How will the project be sustained beyond the life of the EPA grant?

(dd) How will project deliverables and/or findings be presented/packaged to be shared with and replicated by other states?

(ee) All projects should be completed prior to February 1, 2006. Outline a detailed time line/responsibility matrix to link your project activities to a clear project schedule. Indicate at what point over the months of your budget period each action, project outcome or milestone occurs and indicate which partner is responsible for each action.

(iv.) Project Budget (1-2 pgs.): Articulate how funds will be used for specific items and activities. Your budget should include some if not all of the following major categories of expenses: personnel (salaries and fringe), travel, equipment, supplies, contract costs, and indirect costs.

(aa) Eligible Expenses: salaries/fringe, travel, communications, equipment rental, indirect overhead, public outreach efforts (workshops, public forums, meeting expenses), office expenses, printing and copying (conference and promotional materials), and web site dissemination of information related to the project.

(bb) Ineligible Expenses: capital expenditures, construction expenses, lobbying, endowments, formal educational expenses, entertainment, remediation and removal expenses, medical equipment and supplies, air sampling, and equipment purchases as the sole focus of the assistance agreement.

(v.) Appendices: As appropriate and relevant, include letters of commitment from major partners and resumes for key personnel as appendices. Be sure letters of commitment focus on the partner's role in the proposed project. Do not include any materials other than letters of commitment and resumes.

T. Contents of Full Proposal Package

To support the EPA review process, the proposal must contain eight hard copy sets of the following materials in the order listed below:

(1) Completed EPA Application Kit for Federal Assistance and;

(2) Work Plan Proposal Narrative consisting of:

(a) Contact Information Sheet;

(b) Project Summary;

(c) Project Description;

(d) Project Budget; and

(e) Appendices exactly as defined in Section VIII. Requirements of Letters of Intent and Full Proposals.

Please do not submit additional items. Unnecessary materials (cover letters, un-requested forms or binders create extra burden for the reviewers and failure to follow instructions may lower your score.

Section VIII. Review and Selection Process

U. Scoring (Maximum Score: 110 Points)

(1) Reviewers will score each Full Proposal based on how well it:

(a) Demonstrates substantive collaborative partnerships between state environment and health agencies and demonstrates that project organizations and personnel have the skills and experience necessary to ensure success. (25 points)

(b) Demonstrates that project will address a clear and previously unmet need and identifies who will benefit from the project. (15 points)

(c) Establishes reasonable/realistic goals and objectives (including reasonable time frames); Clearly outlines a cogent strategy for achieving, tracking, and demonstrating meaningful results; Outlines how results and the level of project success will be evaluated; and outlines how the project will be sustained beyond the funding cycle. (40 points)

(d) Outlines a clear and cost effective budget for proposed project. (15 points)

(e) Provides a useful mechanism for project results, such as product deliverables and lessons learned, to be shared and applied in other states. (5 points)

(2) Bonus Points (Up to 10): Reviewers have the flexibility to provide up to 10 bonus points for exceptional project qualities in accordance with one or more of the following principles of quality and efficacy:

(a) Applicant's proposed work targets disproportionately impacted (with respect to asthma severity or incidence) children.

(b) Applicant's materials are consistent with EPA guidance and recommendations. In particular, applicant outlines educational materials and mitigation methods for second-hand tobacco smoke, house dust mites, cockroaches, molds, and animal dander that are compatible with the guidance contained in EPA's asthma brochure, A Clear Your Home of Asthma Triggers: Your Children will Breathe Easier http://www.epa.gov/asthma/resources.html and the findings and recommendations contained in the January 2000 National Academy of Sciences report on asthma, A Clearing the Air: Asthma and Indoor Air Exposures http://books.nap.edu/catalog/9610.html.

(c) Projects focused upon ambient air pollutants and asthma should be consistent with EPA guidance that can be accessed through http://www.epa.gov/air/topics/comap.html.

(d) Use of education materials reflecting current standards for conducting environmental health or public health education and outreach activities, particularly with respect to motivating behavioral changes in low-literacy, low-income, and disproportionately impacted populations. (This is not relevant for Phase A Planning Projects).

(e) Proposals including extraordinarily compelling examples and other strengths noted by the reviewers who evaluate and compare proposals.

V. Proposal Selection

Letters of Intent submitted to EPA will be screened for basic eligibility and administrative responsiveness. Only those proposals satisfying all the basic requirements will be invited to submit a Full Proposal.

Full Proposals submitted (by invitation) to EPA will be evaluated screened again to confirm basic eligibility and administrative responsiveness, especially completeness. Those Full Proposals satisfying administrative requirements will enter the full evaluation phase review process. Full Proposals will be evaluated based upon the quality of their work plans. Reviewers conducting the screening and evaluation will be EPA Headquarters, Regional and Program Office personnel. At the conclusion of the evaluation phase, the reviewers will score Full Proposals based upon the scoring system described in detail above in section VIII of this solicitation.

W. Final Selections

After individual projects are evaluated and scored by reviewers, as described above, EPA officials from Headquarters and Regions will select a diverse range of finalists from the highest ranking Full Proposals. In making the final selections, EPA will take into account geographic distribution.

X. Notification to Applicants

Applicants will receive an email notification of receipt of the Letter of Intent not more than 7 business days after receipt by the Agency. Applicants with successful Letters of Intent will be invited on or before August 22, 2003 if they are deemed eligible to participate in the optional Pre-application Conference Call and to submit a Full Proposal. Applicants will receive an email notification of receipt of the Full Proposal within one month of receipt by the Agency. Usually within six months of application, EPA will contact finalists to request additional federal forms and other information as recommended by reviewers. Rejection Letters are usually sent within 6 months after submission of the Full Proposal.

Section IX. Grantee Responsibilities

Y. Responsible Officials

Projects must be performed by the applicant or by a person satisfactory to the applicant and EPA. All proposals must identify any person other than the applicant who will assist in carrying out the project. These individuals are responsible for receiving the grant award agreement from EPA and ensuring that all grant conditions are satisfied. Recipients are responsible for the successful completion of the project.

Z. Incurring Costs

No pre-award costs should be incurred by the recipient. Grant recipients may begin incurring allowable costs on the start date identified in the EPA grant award agreement. Activities must be completed and funds spent within the time frames specified in the award agreement. EPA grant funds may be used only for the purposes set forth in the grant agreement and must conform to the Federal cost principles contained in OMB Circular A-87; A-122; and A-21, as appropriate. Ineligible costs will be reduced from the final grant award.

AA. Reports and Work Products

Specific financial and other reporting requirements will be identified in the EPA grant award agreement. Grant recipients must submit formal quarterly progress reports, unless otherwise instructed in the award agreement. Also, two copies of the final report and two copies of all work products must be sent to the EPA project officer within 90 days after the expiration of the budget period. This submission will be accepted as the final requirement, unless the EPA project officer notifies you that changes must be made.

Section X. Other Information and Shipping

BB. Resources

(1) Please visit our Web site for information on children's environmental health issues and these grant materials at http://yosemite.epa.gov/ochp and http://yosemite.epa.gov/ochp/ochpweb.nsf/content/grants.htm, respectively.

(2) We strongly suggest that applicants examine the ECOS/ASTHO state draft action agenda, Catching Your Breath, http://www.astho.org/pubs/CatchingYourBreathReport.pdf for background on State/asthma activities.

(3) First time recipients of Federal funds are encouraged to familiarize themselves with the regulations applicable to assistance agreements found in the Code of Federal Regulations (CFR) title 40, part 31 for State and local government entities. See http://www.epa.gov/docs/epacfr40/chapt-I.info/subch-B.html. You may also obtain a copy of the CFR title 40, part 31 at your local U.S. Government Bookstore, or through the U.S. Government Printing Office. This solicitation notice contains all the information and forms necessary to prepare a Letter of Intent. If your project is selected as a finalist after the evaluation process is concluded, EPA will provide you with additional Federal forms needed to process your Full Proposal.

CC. Regulatory References

EPA's general assistance regulations at 40 CFR part 31 apply to state governments.

DD. Federal Procedures

(1) Optional Pre-proposal Assistance Conference Call for eligible applicants based upon EPA review of the Letter of Intent has been scheduled for September 3, 2003. Eligible applicants who indicated in their Letter of Intent a desire to participate on the call will be advised via email of call-in procedures prior to the call.

(2) Dispute Resolution Process: Procedures are in 40 CFR 30.63 and 40 CFR 31.70.

EE. Shipping and Mailing Addresses and Information

Applicants who need more information about this grant or clarification about specific requirements of this Solicitation Notice, should periodically check the Web page http://yosemite.epa.gov/ochp/ochpweb.nsf/content/grants.htm for posted information (e.g., administrative clarification and responses to Q's & A's from Letters of Intent and participate, if eligible, in the Pre-proposal Assistance Conference Call.)

Note: To ensure fair and open competition, EPA will answer no questions except on the pre-application conference call.

Questions and answers from the September 3, 2003, Pre-application Assistance Call will be posted within a week of the Assistance Call on the OCHP Web page at: http://yosemite.epa.gov/ochp/ochpweb.nsf/content/grants.htm.

If paper copies of the EPA Application Kit for Federal Assistance are required, contact Bettina B. Fletcher at 202-564-2646.

Letters of Intent should be e-mailed to: fletcher.bettina@epa.gov.

Full Proposals If Invited By EPA—Due to on-going mail delays in the Washington, DC area, applicants who are invited to submit a Full Proposal are strongly encouraged to send original Full Proposals signed by an authorized representative of their state organization by way of a private shipping company (e.g., Federal Express, UPS, DHL, or courier) to the attention of: Bettina Fletcher, U.S. EPA, Office of Children's Health Protection, 1200 Pennsylvania Ave, NW., Mail Code 1107A, Room 2512 Ariel Rios North, Washington, DC 20004.

If Full Proposals are mailed, send them to:Bettina Fletcher, U.S. EPA, Office of Children's Health Protection, 1200 Pennsylvania Ave, NW., Mail Code 1107A, Room 2512 Ariel Rios North, Washington, DC 20460.

Sample Letter of Intent Summary Sheet (Up to 2 Pages)

All state organizations who intend to apply should complete this form and return it to EPA via e-mail to fletcher.Bettina@epa.gov by August 11, 2003.

Section 1

Organization Name:

Project Name:

Applicant Address: _______

Street City State Zip Code

Applicant Phone Number:

Applicant Email Address:

Authorized Representative of the Organization:

Applicant FAX Number:

Applicant Web Site (if any)

Section 2

Brief description of your agency and how your agency proposes to collaborate with sister state agency(ies) in this project.

Section 3

Project Summary (Not to Exceed One Page)

Description of the organizational unit that will lead/oversee the project:

Brief summary statement that articulates the project's concept and states its goals and objectives:

Identification of the funding priority addressed by the project:

Brief summary of the method that will be used to achieve the project goals:

Summary of the kind of activities that will be funded by the project:

Section 4

Indicate below whether your agency would like to participate in the September 3, 2003, Pre-application Assistance Call if your letter of intent is found to be eligible. Questions and answers from the September 3, 2003, Pre-application Assistance Call will be posted by September 10, 2003, at: http://yosemite.epa.gov/ochp/ochpweb.nsf/content/grants.htm.

• Yes, I would like to participate in the September 3, 2003, Pre-application Assistance Call if my Letter of Intent is found by EPA to be eligible.

• No, I decline to participate in the September 3, 2003, Pre-proposal Assistance Call if my Letter of Intent is found by EPA to be acceptable.

• Please describe any type of support (e.g., Telephone for the Deaf (TDD) number and/or Federal Information Relay (FIR)) you require to permit participation in the Pre-application Assistance Conference Call.

Section 5

To help us prepare for the best possible Pre-Application Assistance Call, please submit in advance any questions you have at this time regarding this application process. Additional questions may also be posed on the call.

Dated: June 24, 2003.
Joanne Rodman,
Acting Director, Office of Children's Health Protection.

[FR Doc. 03-16583 Filed 6-30-03; 8:45 am]

BILLING CODE 6560-50-P